DEPARTMENT OF HOMELAND SECURITY

U.S. Customs and Border Protection

Accreditation and Approval of Intertek USA, Inc., as a Commercial Gauger and Laboratory

AGENCY: U.S. Customs and Border Protection, Department of Homeland Security.

ACTION: Notice of accreditation and approval of Intertek USA, Inc., as a commercial gauger and laboratory.

SUMMARY: Notice is hereby given, pursuant to CBP regulations, that Intertek USA, Inc. has been approved to gauge petroleum and certain petroleum products and accredited to test petroleum and certain petroleum products for customs purposes for the next three years as of August 29, 2013. This notice modifies a notice previously published on July 9, 2014 in the Federal Register (79 FR 38942) by including one additional laboratory method in the list of accredited methods, specifically ASTM D 3606.

DATES: Effective Dates: The accreditation and approval of Intertek USA, Inc., as commercial gauger and laboratory became effective on August 29, 2013. The next triennial inspection date will be scheduled for August 2016.

FOR FURTHER INFORMATION CONTACT: Approved Gauger and Accredited Laboratories Manager, Laboratories and Scientific Services, U.S. Customs and Border Protection, 1331 Pennsylvania Avenue NW., Suite 1500N, Washington, DC 20229, tel. 202-344-1060.

SUPPLEMENTARY INFORMATION: Notice is hereby given pursuant to 19 CFR 151.12 and 19 CFR 151.13, that Intertek USA, Inc., 481-A East Shore Parkway, New Haven, CT 06512, has been approved to gauge petroleum and certain petroleum products and accredited to test petroleum and certain petroleum products for customs purposes, in accordance with the provisions of 19 CFR 151.12 and 19 CFR 151.13. Intertek USA, Inc. is approved for the following gauging procedures for petroleum and certain petroleum products per the American Petroleum Institute (API) Measurement Standards:

API chapters | Title
3 | Tank gauging.
7 | Temperature determination.
8 | Sampling.
12 | Calculations.
17 | Maritime measurement.

This notice modifies a notice previously published on July 9, 2014 in the Federal Register (79 FR 38942) by including one additional laboratory method in the list of accredited methods, specifically ASTM D 3606. Intertek USA, Inc. is accredited for the following laboratory analysis procedures and methods for petroleum and certain petroleum products set forth by the U.S. Customs and Border Protection Laboratory Methods (CBPL) and American Society for Testing and Materials (ASTM):

CBPL No. | ASTM | Title
27-04 | ASTM D 95 | Standard test method for water in petroleum products and bituminous materials by distillation.
27-06 | ASTM D 473 | Standard Test Method for Sediment in Crude Oils and Fuel Oils by the Extraction Method.
27-08 | ASTM D 86 | Standard Test Method for Distillation of Petroleum Products at Atmospheric Pressure.
27-13 | ASTM D 4294 | Standard test method for sulfur in petroleum and petroleum products by energy-dispersive x-ray fluorescence spectrometry.
27-14 | ASTM D 2622 | Standard Test Method for Sulfur in Petroleum Products (X-Ray Spectrographic Methods).
27-48 | ASTM D 4052 | Standard Test Method for Density and Relative Density of Liquids by Digital Density Meter.
27-50 | ASTM D 93 | Standard test methods for flash point by Pensky-Martens Closed Cup Tester.
27-54 | ASTM D 1796 | Standard test method for water and sediment in fuel oils by the centrifuge method (Laboratory procedure).
27-57 | ASTM D 7039 | Standard Test Method for Sulfur in Gasoline and Diesel Fuel by Monochromatic Wavelength Dispersive X-Ray Fluorescence Spectrometry.
27-58 | ASTM D 5191 | Standard Test Method For Vapor Pressure of Petroleum Products (Mini Method).
N/A | ASTM D 1319 | Standard Test Method for Hydrocarbon Types in Liquid Petroleum Products by Fluorescent Indicator Adsorption.
N/A | ASTM D 4815 | Standard Test Method for Determination of MTBE, ETBE, TAME, DIPE, tertiary-Amyl Alcohol and C1 to C4 Alcohols in Gasoline by Gas Chromatography.
N/A | ASTM D 5453 | Standard Test Method for Determination of Total Sulfur in Light Hydrocarbons, Spark Ignition Engine Fuel, Diesel Engine Fuel, and Engine Oil by Ultraviolet Fluorescence.
N/A | ASTM D 7042 | Standard Test Method for Dynamic Viscosity and Density of Liquids by Stabinger Viscometer (and the Calculation of Kinematic Viscosity).
N/A | ASTM D 5599 | Standard Test Method for Determination of Oxygenates in Gasoline by Gas Chromatography and Oxygen Selective Flame Ionization Detection.
N/A | ASTM D 3606 | Standard Test Method for Determination of Benzene and Toluene in Finished Motor and Aviation Gasoline by Gas Chromatography.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov.

Please reference the Web site listed below for a complete listing of CBP approved gaugers and accredited laboratories.

http://www.cbp.gov/sites/default/files/documents/gaulist_3.pdf.

Dated: August 28, 2014.
Ira S. Reese,
Executive Director, Laboratories and Scientific Services Directorate.

[FR Doc. 2014-21214 Filed 9-4-14; 8:45 am]

BILLING CODE 9111-14-P